FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011831.

Title: Maersk Sealand/Wan Hai Lines Asia-U.S. West Coast Slot Charter Agreement.

Parties: A. P. Moller-Maersk Sealand, Wan Hai Lines Ltd.

Synopsis: The agreement authorizes Maersk Sealand to charter space to Wan Hai in the trades to and from ports of Los Angeles, Long Beach and Oakland, California, on the one hand, and the ports of Yantian, People's Republic of China, Hong Kong, S.A.R., and Kaohsiung, Taiwan, on the other. The parties request expedited review.

By Order of the Federal Maritime Commission.
Dated: October 25, 2002.
Bryant L. VanBrakle,
Secretary.

[FR Doc. 02-27643 Filed 10-29-02; 8:45 am]

BILLING CODE 6730-01-P